DEPARTMENT OF ENERGY

Federal Energy Regulatory Commission

[Docket Nos. ER08-61-000; ER08-61-001]

ISO New England Inc.; Notice of Technical Conference

February 15, 2008.

Take notice that Commission staff will convene a technical conference in the above-referenced proceeding on Wednesday, March 5, 2008 at 9 a.m. (EDT) in a room to be designated at the Federal Energy Regulatory Commission, 888 First Street, NE., Washington, DC 20426. All interested persons are invited to attend and registration is not required; however, active participation will be limited to those parties who have previously requested to intervene in this proceeding.

The Commission's January 25, 2008 order ¹ in this proceeding directed its staff to hold a technical conference to address issues raised by ISO New England Inc. (ISO-NE) in its October 16, 2007 filing and its deficiency response filed on November 28, 2007. Specifically, the Commission seeks to determine whether further detail should be added to ISO-NE's tariff to capture its proposal and its current practice of using Net Commitment Period Compensation (NCPC) to resolve differences in clearing prices across interfaces. As part of its presentation, ISO-NE is directed to discuss whether removing congestion costs from the NCPC uplift mechanism and incorporating these costs in the Locational Marginal Price at the External Node, as the Tariff appears to require, would reduce or eliminate the opportunity for market manipulation that is the impetus for the October 16, 2007 filing.

¹ ISO New England Inc., 122 FERC ¶ 61,057 (2008).

Any parties that plan to participate in this technical conference should contact John M. White at (202) 502-6867 no later than February 28, 2008.

Commission staff has arranged for telephone conferencing should any party wish to listen to the proceeding remotely. Any parties that plan to attend by phone should contact John M. White by e-mail at johnm.white@ferc.gov no later than February 28, 2008 to request the call-in instructions.

Commission conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact: Morris Margolis, Office of Energy Market Regulation, Federal Energy Regulatory Commission, 888 First Street, NE., Washington, DC 20426, (202) 502-8611, Morris.margolis@ferc.gov.

Kimberly D. Bose,
Secretary.

[FR Doc. E8-3357 Filed 2-22-08; 8:45 am]

BILLING CODE 6717-01-P